NATIONAL CREDIT UNION ADMINISTRATION

Notice of Meeting; Sunshine Act

Time and Date: 10 a.m., Thursday, June 20, 2002.

Place: Board Room, 7th Floor, Room 7047, 1775 Duke Street, Alexandria, VA 22314-3428.

Status: Open.

Matters to be Considered:

1. Request from a Federal Credit Union to Convert to a Community Charter.

2. Oregon's Member Business Loan Rule.

3. Proposed Rule: Part 704 of NCUA's Rules and Regulations, Corporate Credit Unions.

Time and Date: 9 a.m., Thursday, June 20, 2002.

Place: Board Room, 7th Floor, Room 7047, 1775 Duke Street, Alexandria, VA 22314-3428.

Status: Closed.

Matters to be Considered:

1. Administrative Action under Section 206 of the Federal Credit Union Act. Closed pursuant to Exemption (6).

2. Pilot Program Request pursuant to Part 703 of NCUA's Rules and Regulations. Closed pursuant to Exemptions (8), (9)(A)(ii), and 9(B).

Recess: 9:30 a.m.

FOR FURTHER INFORMATION CONTACT: Becky Baker, Secretary of the Board, Telephone: 703-518-6304.

Becky Baker,
Secretary of the Board.

[FR Doc. 02-15387 Filed 6-13-02; 5:02 pm]

BILLING CODE 7535-01-M